DEPARTMENT OF THE INTERIOR

Geological Survey

[GX23.WB12.C25A1.00; OMB Control Number 1028-0116]

Agency Information Collection Activities; Alaska Beak Deformity Observations

AGENCY: U.S. Geological Survey, Interior.

ACTION: Notice of information collection; request for comment.

SUMMARY: In accordance with the Paperwork Reduction Act of 1995 (PRA), we, the U.S. Geological Survey (USGS), are proposing to renew an information collection.

DATES: Interested persons are invited to submit comments on or before December 12, 2022.

ADDRESSES: Send your comments on this information collection request (ICR) by mail to the U.S. Geological Survey, Information Collections Clearance Officer, 12201 Sunrise Valley Drive, MS 159, Reston, VA 20192; or by email to gs-info_collections@usgs.gov. Please reference OMB Control Number 1028-0116 in the subject line of your comments.

FOR FURTHER INFORMATION CONTACT: To request additional information about this ICR, contact Colleen Handel by email at cmhandel@usgs.gov, or by telephone at 907-786-7181. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA, we provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personally identifiable information (PII) in your comment, you should be aware that your entire comment—including your PII—may be made publicly available at any time. While you may ask us in your comment to withhold your PII from public review, we cannot guarantee that we will be able to do so.

Abstract: As part of the USGS Ecosystems Mission Area effort to assess the status and trends of the Nation's biological resources, the Alaska Science Center Landbird Program conducts research on avian populations within Alaska. Beginning in the late 1990s, an outbreak of beak deformities in Black-capped Chickadees emerged in south-central Alaska. USGS scientists launched a study to understand the scope of this problem and its effect on wild birds. Since that time, researchers have gathered important information about the deformities and have identified a new virus as the potential cause. The collection of PII is requested as part of this ongoing research in resident Alaskan birds. Members of the public provide observation reports of birds with deformities from around Alaska and other regions of North America. These reports are very important in that they allow researchers to determine the geographical distribution and species affected. Data collection over such a large and remote area would not be possible without the public's assistance. As part of the online reporting system, an individual's phone number, email address, and mailing address are requested. This information allows researchers to request additional details or verify reports if necessary but is not required for submission. PII is used only for contact purposes, is stored in a separate table that is encrypted, and is not shared in any way with other individuals, groups, or organizations.

Title of Collection: Alaska Beak Deformity Observations.

OMB Control Number: 1028-0116.

Form Number: NA.

Type of Review: Renew an information collection.

Respondents/Affected Public: Individuals/households.

Total Estimated Number of Annual Respondents: 150.

Total Estimated Number of Annual Responses: 175.

Estimated Completion Time per Response: Approximately 5 minutes.

Total Estimated Number of Annual Burden Hours: 15 hours.

Respondent's Obligation: Voluntary.

Frequency of Collection: One time.

Total Estimated Annual Non-hour Burden Cost: None.

An agency may not conduct or sponsor, nor is a person required to respond to, a collection of information unless it displays a currently valid OMB control number.

The authorities for this action are the PRA (44 U.S.C. 3501, et seq.).

Dated: October 4, 2022.
Christian Zimmerman,
USGS Alaska Science Center Director.

[FR Doc. 2022-21961 Filed 10-7-22; 8:45 am]

BILLING CODE 4338-11-P